DEPARTMENT OF TRANSPORTATION

Federal Railroad Administration

[Docket No. FRA-1999-6404]

Petition for Grandfathering of Non-Compliant Equipment: National Railroad Passenger Corp.; Closure of Comment Period; Date and Location of Public Hearing

On October 18, 1999, the National Railroad Passenger Corporation (Amtrak) petitioned the Federal Railroad Administration (FRA) for grandfathering approval of non-compliant passenger equipment manufactured by Renfe Talgo of America (Talgo) for use on rail lines between Vancouver, British Columbia and Eugene, Oregon; between Las Vegas, Nevada and Los Angeles, California; and between San Diego, California and San Luis Obispo, California. Notice of receipt of such petition was published in the Federal Register on November 2, 1999, at 64 FR 59230. Interested parties were invited to comment on the petition before the end of the comment period (then December 2, 1999).

Through published notice in the Federal Register, FRA extended the comment period in this proceeding and explained the reasons therefor. See 65 FR 5723; Feb. 4, 2000. By notice published on February 29, 2000, FRA announced that the comment period in this proceeding would remain open to permit the resolution of issues involving Freedom of Information Act (FOIA) requests for information related to this proceeding. 65 FR 10851. FRA has completed its responses to the FOIA requests, and placed copies of the documents provided to the FOIA requester in the public docket for this proceeding. Accordingly, FRA hereby announces that the comment period in this proceeding will close on August 2, 2000.

FRA also announces that, in accordance with 49 CFR 211.25 and 238.203(h), it has scheduled a public hearing on Amtrak's petition for grandfathering approval of the Talgo passenger trainsets. A public hearing is set for 9:30 a.m. on Friday, July 21, 2000, at the Federal Railroad Administration, 7th floor, conference room 1, 1120 Vermont Avenue, N.W., Washington, D.C. Interested parties are invited to present oral statements at the hearing. The hearing will be an informal one and will be conducted in accordance with FRA's Rules of Practice (49 CFR 211.25) by a representative designated by FRA. The hearing will be a non-adversarial proceeding; therefore, there will be no cross-examination of persons presenting statements. The FRA representative will make an opening statement outlining the scope of the hearing. After all initial statements have been completed, those persons wishing to make a brief rebuttal will be given the opportunity to do so in the same order in which initial statements were made. Additional procedures, as necessary for the conduct of the hearing, will be announced at the hearing.

All written comments concerning this proceeding should be identified with Docket Number FRA-1999-6404 and must be submitted to the Docket Clerk, DOT Central Docket Management Facility, Room PL-401, 400 Seventh Street, S.W., Washington, DC 20590. Comments received within 30 days of publication of this notice will be considered by FRA before final action is taken on Amtrak's petition. Comments received after that date will be considered by FRA to the extent practicable.

Amtrak's petition, documents inserted in the docket, and written communications concerning this proceeding are available for examination during regular business hours (9 a.m. to 5 p.m.) at the DOT Central Docket Management Facility, Room PL-401 (Plaza Level), 400 Seventh, S.W., Washington, D.C. 20590. Documents in the public docket are also available for inspection and copying on the Internet at the docket facility's Web site at http://dms.dot.gov. Documents that cannot be accessed on the Internet, due to limitations on scanning large documents and color documents, are available for inspection and copying at the Federal Railroad Administration, Docket Clerk, 7th floor, 1120 Vermont Avenue, N.W., Washington, D.C.

Issued in Washington, D.C. on June 27, 2000.
Grady C. Cothen, Jr.,
Deputy Associate Administrator for Safety Standards and Program Development.

[FR Doc. 00-16724 Filed 6-30-00; 8:45 am]

BILLING CODE 4910-06-U